DEPARTMENT OF THE INTERIOR

Fish and Wildlife Service

$50 Million FY 2001 Wildlife Conservation and Restoration Account, $50 Million FY 2001 State Wildlife Grants Program

AGENCY: Fish and Wildlife Service, Interior.

ACTION: Notice of availability and description of processes to obtain grants.

SUMMARY: Title IX of Commerce, Justice, State Appropriations Act (Wildlife Conservation and Restoration Account) and Title VIII of the Interior Appropriations Act (Land Conservation, Preservation and Infrastructure Improvement) authorize two separate appropriations to provide grant funds to States and U.S. Territories to enhance fish and wildlife conservation and restoration.

DATES:

—State program and plan descriptions are due by March 1, 2001.

—The Service will determine compliance with the criteria and initiate apportionments of Wildlife Conservation and Restoration Program funds by April 1, 2001.

—States must submit proposals for the competitively-based State Wildlife Grants Program by May 1, 2001.

—The Service Director will determine which proposals are to be funded by July 1, 2001.

ADDRESSES: Kris E. LaMontagne, Chief, Division of Federal Aid, U.S. Fish and Wildlife Service, 4401 North Fairfax Drive, Suite 140, Arlington, VA 22003.

FOR FURTHER INFORMATION CONTACT: Kris E. LaMontagne, Chief, Division of Federal Aid, at the above address.

SUPPLEMENTARY INFORMATION:

Descriptions of Both Programs

Title IX of Commerce, Justice, State Appropriations Act (Wildlife Conservation and Restoration Account) and Title VIII of the Interior Appropriations Act (Land Conservation, Preservation and Infrastructure Improvement) authorize two separate appropriations to provide grant funds to States and U.S. Territories to enhance fish and wildlife conservation and restoration.

The Commerce, Justice, State Appropriations Act provides $50 million in FY 2001 by creating and authorizing a subaccount under the Pittman-Robertson Act for a Wildlife Conservation and Restoration Program, a formula-based apportionment to States and Territories similar to that in the existing Sport Fish and Wildlife Restoration Programs. These funds are to be “used for the development, revision, and implementation of wildlife conservation and restoration plans and programs * * * for the planning and implementation of its wildlife conservation and restoration program and wildlife conservation strategy, including wildlife conservation, wildlife conservation education, and wildlife-associated recreation projects. Priority for funding from the Wildlife Conservation and Restoration account shall be for those species with the greatest conservation need as defined by the State wildlife conservation and restoration program.”

The Interior Appropriations Act provides $50 million for FY 2001 for a State Wildlife Grants Program, a cost-shared, competitively awarded, project-based program. Report language accompanying the Act provides: “The funds should not be distributed based on formula basis and every effort should be made to leverage the Federal funding to the maximum extent possible * * * the Service shall not provide a grant to any State unless the State has, or commits to develop * * * a required conservation plan.”

The Fish and Wildlife Service has determined that States will use just one planning process to meet the criteria for the required conservation plans under the Commerce, Justice, State Appropriations Act and the Interior Appropriations Act.

More Detailed Information on Due Dates

State program and plan descriptions to satisfy the requirements for the FY 2001 Wildlife Conservation and Restoration Program and the FY 2001 State Wildlife Grants Program are due by March 1, 2001. The Service will determine compliance with the criteria no later than April 1, 2001, and initiate apportionments of Wildlife Conservation and Restoration Program funds to those States whose Plan description satisfies the requirements of the Wildlife Conservation and Restoration Program. The Service will assist those States whose responses initially do not meet the statutory criteria in fulfilling these requirements.

States must submit proposals for the competitively-based State Wildlife Grants Program by May 1, 2001. Only a State whose Program and Plan description was submitted and approved pursuant to the preceding paragraph may apply. The Service Director will determine no later than July 1, 2001, which proposals are to be funded.

Further Description of Eligibility for Funding for Both Programs

Wildlife Conservation and Restoration Program (Commerce, Justice, State Appropriation Act)

States and Territories shall not use Wildlife Conservation and Restoration Program funds to replace existing Federal Aid funds available to them. Funds may be used for new programs, including development of the Wildlife Conservation and Restoration Program and projects and enhancement of existing programs and projects. Priority for funding shall be for those species with the greatest conservation need as defined by the State or Territory's program. An agency is not eligible if “sources of revenue” available to it for the conservation of wildlife after January 1, 2000, are diverted.

The Wildlife Conservation and Restoration Program contains two program elements not found in the existing Wildlife Restoration (Pittman-Robertson Act) portion of the Federal Aid program, “wildlife-associated recreation” and “wildlife conservation education.” Wildlife-associated recreation projects are those intended to meet the demand for outdoor activities associated with wildlife. This includes, but is not limited to, such activities as hunting and fishing, wildlife observation and wildlife photography, and projects such as construction or restoration of wildlife viewing areas, observation towers or platforms, trails, trail heads, water access points, and access for such activities and projects.

Wildlife conservation education projects are intended to foster responsible natural resources stewardship and includes public outreach.

The State Plan Elements

States and territories are to submit a description of their plan by March 1, 2001, and if approved, qualifies a State to receive funds under both the Wildlife Conservation and Restoration Program and the State Wildlife Grants Program. Submission of this information constitutes a commitment by the State to develop a Wildlife Conservation Strategy within five years. Each Plan must include a description of the four statutory elements of the Program as follows:

1. The State fish and wildlife agency must have the authority to develop and implement the Wildlife Conservation and Restoration Program. Under this requirement, a State should cite existing statutory or constitutional authority to protect and manage wildlife. Such authority should include authority that covers both game and nongame species as well as authority to undertake wildlife-associated recreation projects and wildlife-conservation education projects. If the State wildlife agency does not have authority for any of these items but another State agency does, the State wildlife agency might still qualify if it were delegated “overall responsibility and accountability” for the Wildlife Conservation and Restoration program by the other agency.

2. Eligible projects include:

(a) The development and implementation of new wildlife conservation projects and/or projects that supplement existing wildlife programs, with appropriate consideration to all wildlife and priority for those species with the greatest conservation need, as defined by the State or Territory's program. As a practical matter, a State must describe how the State determines or will determine which species are in the most need of assistance, and give a description of how particular game and nongame species benefit directly from a program or project;

(b) Wildlife-associated recreation projects; including how the new funds will be used to develop and implement a program and projects to address wildlife-associated recreation needs; and,

(c) Wildlife conservation education projects; including how the new funds will be used to develop and implement a program and projects to address wildlife conservation education needs. No funds from the Wildlife Conservation and Restoration Program subaccount may be used for wildlife conservation education efforts, projects, or programs that promote or encourage opposition to the regulated taking of wildlife.

3. How the State involved the public in the development, revision, and implementation of the program or plan and how it intends to involve the public in development of a comprehensive strategy over the next five years.

4. What is the State's commitment to development of a wildlife conservation strategy? Within five years of the date of their initial apportionment, the Service requires States to develop and begin implementation of a wildlife conservation strategy based upon the best available scientific information that:

(a) uses such information on the distribution and abundance of species of wildlife, including declining species as the State fish and wildlife department deems appropriate, that show the diversity and health of wildlife of the State;

(b) identifies the extent and condition of wildlife habitats and community types essential to the conservation of species, focusing on species identified in a State's Wildlife Conservation and Restoration Program;

(c) identifies the problems that may adversely affect the species or their habitats, and provides for priority research and surveys to identify factors that may help in restoration and more effective conservation of such species and their habitats;

(d) determines those actions that they should take to conserve species and their habitats identified in the State's Wildlife Conservation and Restoration Program as having the greatest conservation need and establishes priorities for implementing such conservation actions;

(e) provides for periodic monitoring of such species and their habitats and the effectiveness of the conservation actions taken, and for adapting conservation actions as appropriate to respond to new information or changing conditions;

(f) provides for the review of the State wildlife conservation strategy and, if appropriate, revision at intervals of not more than 10 years; and

(g) during the development, implementation, review, and revision of the wildlife conservation strategy, provides for coordination by the State fish and wildlife department with Federal, State, and local agencies and Indian Tribes that manage significant areas of land or water within the State, or administer programs that significantly affect the conservation of species or their habitats as identified in a State's Wildlife Conservation and Restoration Program Plan.

The Wildlife Conservation and Restoration Program is statutorily established as a subaccount of the existing Federal Aid in Wildlife Restoration Fund. Except as expressly provided otherwise, the disbursement of funds for the Federal share of individual projects approved under this program will be conducted in the same manner as, and under the existing rules and regulations of, the Federal Aid in Wildlife Restoration program. Not more than 3 percent of the funds in the account are available for administration and execution of the program. Funding under this program will remain available for obligation for three fiscal years.

For the Wildlife Conservation and Restoration Program we base the statutory formula for apportionment one-third in the ratio that the land area of a State bears to the total land area of all States and two-thirds in the ratio that the population that a State bears to the overall population of all States with no State receiving more than 5 percent or less than 1 percent of the amount available. The District of Columbia and the Commonwealth of Puerto will receive one-half of 1 percent and Guam, American Samoa, the U.S. Virgin Islands, and the Commonwealth of the Northern Mariana Islands will receive one-fourth of 1 percent.

FY2001 Apportionments for $50 Million Wildlife Grants: C-J-S Appropriation
State | Land area | Population * | Amount
Alabama | 51,718 | 4,447,100 | 753,573
Alaska | 587,875 | 626,932 | 2,425,000
Arizona | 114,006 | 5,130,632 | 1,148,630
Arkansas | 53,182 | 2,673,400 | 566,536
California | 158,647 | 33,871,648 | 2,425,000
Colorado | 104,100 | 4,301,261 | 1,006,751
Connecticut | 5,006 | 3,405,565 | 485,000
Delaware | 2,026 | 783,600 | 485,000
Florida | 58,620 | 15,982,378 | 2,054,361
Georgia | 58,930 | 8,186,453 | 1,200,808
Hawaii | 6,459 | 1,211,537 | 485,000
Idaho | 83,574 | 1,293,953 | 571,398
Illinois | 56,343 | 12,419,293 | 1,651,820
Indiana | 36,185 | 6,080,485 | 852,921
Iowa | 56,276 | 2,926,324 | 610,179
Kansas | 82,282 | 2,688,418 | 717,720
Kentucky | 40,411 | 4,041,769 | 651,008
Louisiana | 47,719 | 4,468,976 | 735,422
Maine | 33,128 | 1,274,923 | 485,000
Maryland | 10,455 | 5,296,486 | 634,704
Massachusetts | 8,262 | 6,349,097 | 738,898
Michigan | 58,513 | 9,938,444 | 1,390,843
Minnesota | 84,397 | 4,919,479 | 973,316
Mississippi | 47,695 | 2,844,658 | 557,126
Missouri | 69,709 | 5,595,211 | 971,961
Montana | 147,046 | 902,195 | 854,590
Nebraska | 77,359 | 1,711,263 | 585,236
Nevada | 110,567 | 1,998,257 | 787,363
New Hampshire | 9,283 | 1,235,786 | 485,000
New Jersey | 7,790 | 8,414,350 | 963,013
New Mexico | 121,598 | 1,819,046 | 824,391
New York | 49,122 | 18,976,457 | 2,333,978
North Carolina | 52,672 | 8,049,313 | 1,153,607
North Dakota | 70,704 | 642,200 | 485,000
Ohio | 41,329 | 11,353,140 | 1,457,720
Oklahoma | 69,903 | 3,450,654 | 737,718
Oregon | 97,052 | 3,421,399 | 874,020
Pennsylvania | 45,310 | 12,281,054 | 1,579,961
Rhode Island | 1,213 | 1,048,319 | 485,000
South Carolina | 31,117 | 4,012,012 | 599,985
South Dakota | 77,121 | 754,844 | 485,000
Tennessee | 42,145 | 5,689,283 | 840,636
Texas | 266,873 | 20,851,820 | 2,425,000
Utah | 84,904 | 2,233,169 | 681,257
Vermont | 9,615 | 608,827 | 485,000
Virginia | 40,598 | 7,078,515 | 985,074
Washington | 68,126 | 5,894,121 | 996,614
West Virginia | 24,232 | 1,808,344 | 485,000
Wisconsin | 56,145 | 5,363,675 | 876,862
Wyoming | 97,819 | 453,588 | 485,000
District of Columbia |  |  | 242,500
Puerto Rico |  |  | 242,500
Guam |  |  | 121,250
Virgin Islands |  |  | 121,250
American Samoa |  |  | 121,250
N. Mariana Islands |  |  | 121,250
Subtotal | 3,615,161 | 280,809,653 | 48,500,000
Administration |  |  | 1,500,000
Total |  |  | 50,000,000
* Population Figures are the April 1, 2000 U.S. Census Bureau Figures (http://www.census.gov/population/www.cen2000/respop.html)

No more than 10 percent of the amount apportioned to a State may be used for wildlife-associated recreation.

Once the Service has approved the State Program and Plan, funds are available to make payments on a project that is a segment of the State's Wildlife Conservation and Restoration Program. The Service may also advance funds to a State for project payments and program development.

The intent of this program is to provide funding to the States for additional wildlife conservation projects. These funds should be additive to existing sources and not serve as a substitute to these sources. No State will be eligible to receive funding under the Wildlife Conservation and Restoration Program if they have diverted funding provided to it after January 1, 2000, for any purpose other than the administration of the State fish and wildlife agency.

State Wildlife Grants Program (Interior Appropriation Act)

The State Wildlife Grants Program will provide funding to States for on-the-ground conservation projects that implement existing or future planning efforts to stabilize, restore, enhance, and protect species and habitats of conservation concern. These funds are available for obligation until expended. The program will focus on projects that: (1) address the needs of species and their habitats most in need of conservation, (2) address species conservation needs that are most in need of funding, and (3) leverage Federal funding to the maximum extent possible. To be eligible for this grant program States must have or agree to develop wildlife conservation plans for the conservation of the State's full array of wildlife and their habitats. The Fish and Wildlife Service has determined that a strategy developed to meet the criteria of the Commerce, Justice, State Appropriations Act will satisfy the planning requirements under the Interior Appropriations Act. Thus, submission and approval of a Wildlife Conservation and Restoration Program plan will make a State eligible to compete for funding under the State Wildlife Grant Programs.

The Service may make grants to support development of wildlife conservation plans. Assuming annual appropriations at the $50 million level, the Service will use a portion of available funds, not to exceed 20 percent, for grants to States to support plan/strategy development, subject to State cost sharing.

The Service will also use a portion of available funds, not to exceed 10 percent, for small project grants, recognizing that small projects that address a more localized high priority conservation need or take advantage of a short-term opportunity would otherwise not compete successfully with large scale, multi-faceted, and long term conservation projects.

Proposals for conservation projects, as opposed to planning proposals, must result in measurable on-the-ground habitat restoration or conservation. Project objectives should be consistent with existing conservation plans and strategies, such as Partners in Flight plans, the North American Waterfowl Management Plan, Shorebird Conservation Plans, and endangered species recovery plans. The Service will give priority to projects based on a set of ranking factors, including such items as: the extent of threats to habitat used by the species benefitted by the project; whether a project will benefit multiple species; whether a project brings in multiple partners, particularly partners across State lines, tribal partners or international partners; and the extent to which a project leverages federal funds. A project's total score will be a major factor in project selection, but geographic balance, feasibility, urgency of funding needs, the amount of funding required by a project compared with the total amount of funding available and other such factors may be used to select the final projects.

The Service will develop application procedures, standardized project proposal outlines and the criteria that will be used to rank proposals in coordination with the States and provide these to interested States when complete. Proposals will compete nationally for funding. A joint Federal-State panel will be assembled to assess and recommend priorities for proposals. Application procedures, standardized project proposal outlines, and the criteria that will be used to rank proposals will be available on or before March 1, 2001.

Dated: January 18, 2001.
Jamie Rappaport Clark,
Director, U.S. Fish and Wildlife Service.

[FR Doc. 01-2119 Filed 1-23-01; 8:45 am]

BILLING CODE 4310-55-P